DEPARTMENT OF ENERGY

Federal Energy Regulatory Commission

[Project No. 3273-024]

Chittenden Falls Hydropower, Inc.; Notice of Settlement Agreement, Soliciting Comments, and Modification of Procedural Schedule

Take notice that the following settlement agreement has been filed with the Commission and is available for public inspection.

a. Type of Application: Settlement Agreement.

b. Project No.: 3273-024.

c. Date filed: April 10, 2020.

d. Applicant: Chittenden Falls Hydropower, Inc. (Chittenden Falls Hydro).

e. Name of Project: Chittenden Falls Hydropower Project.

f. Location: On Kinderhook Creek, near the Town of Stockport, Columbia County, New York. The project does not occupy federal land.

g. Filed Pursuant to: Rule 602 of the Commission's Rules of Practice and Procedure, 18 CFR 385.602.

h. Applicant Contact: Mark Boumansour, Chief Operating Officer, Gravity Renewables, Inc., 1401 Walnut Street, Suite 420, Boulder, CO 80302; (303) 440-3378; mark@gravityrenewables.com and/or Celeste N. Fay, Regulatory Manager, Gravity Renewables, Inc., 5 Dartmouth Drive, Suite 104, Auburn, NH 03032; (413) 262-9466; celeste@gravityrenewables.com.

i. FERC Contact: Monir Chowdhury at (202) 502-6736 or monir.chowdhury@ferc.gov.

j. Deadline for filing comments: Comments on the Settlement Agreement, and comments, recommendations, terms and conditions, and prescriptions in response to the Commission's February 21, 2020 Notice of Application Ready for Environmental Analysis (REA Notice) are due on Monday, May 4, 2020. Reply comments are due on Wednesday, June 17, 2020.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Chittenden Falls Hydro filed an Offer of Settlement (Settlement Agreement) on behalf of itself, the New York State Department of Environmental Conservation (New York DEC), and the United States Department of the Interior—Fish and Wildlife Service. The Settlement Agreement includes protection, mitigation, and enhancement measures addressing run-of-river operation and allowable impoundment fluctuations, a minimum bypassed reach flow, fish passage and protection for American eel, and by reference, management plans for northern long-eared bat and bald eagles (Appendix A), and invasive species (Appendix B). Chittenden Falls Hydro requests that the measures in the Settlement Agreement be incorporated as license conditions in any new license issued for the project. The signatories to the Settlement Agreement also request a 40-year license term for the project.

l. A copy of the Settlement Agreement is available for review on the Commission's website at http://www.ferc.gov using the “eLibrary” link. Enter the docket number, excluding the last three digits, in the docket number field to access the document. For assistance, contact FERC Online Support.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

Register online at http://www.ferc.gov/docs-filing/esubscription.asp to be notified via email of new filings and issuances related to this or other pending projects. For assistance, contact FERC Online Support.

m. Procedural Schedule: The Commission's February 21, 2020 REA Notice established April 21, 2020 as the deadline for filing comments, recommendations, terms and conditions, and prescriptions regarding Chittenden Falls Hydro's license application. In order to allow adequate time for stakeholder comments regarding the license application and the Settlement Agreement, we have modified the comment period to allow stakeholders to submit comments on the Settlement Agreement and comments, recommendations, terms and conditions, and prescriptions regarding the license application on the same date, and allow Chittenden Falls Hydro sufficient time to submit reply comments. The application will be processed according to the following revised Hydro Licensing Schedule. Revisions to the schedule may be made as appropriate.

Milestone | Target date
Filing of comments, recommendations, terms and conditions, and prescriptions (per the REA Notice) and comments on the Settlement Agreement | May 4, 2020.
Reply comments due | June 17, 2020.
Commission Issues EA | October 2020.
Comments on EA | November 2020.

Dated: April 13, 2020.
Kimberly D. Bose,
Secretary.

[FR Doc. 2020-08185 Filed 4-16-20; 8:45 am]

BILLING CODE 6717-01-P